DEPARTMENT OF HEALTH AND HUMAN SERVICES

Food and Drug Administration

[Docket No. FDA-2014-D-1167]

Controlled Correspondence Related to Generic Drug Development; Draft Guidance for Industry; Availability; Correction

AGENCY: Food and Drug Administration, HHS.

ACTION: Notice; correction.

SUMMARY: The Food and Drug Administration is correcting a notice entitled “Controlled Correspondence Related to Generic Drug Development; Draft Guidance for Industry; Availability” that appeared in the Federal Register of November 3, 2017. The document announced the availability of a draft guidance for industry. The document was published with the incorrect docket number. This document corrects that error.

FOR FURTHER INFORMATION CONTACT: Lisa Granger, Office of Policy, Food and Drug Administration, 10903 New Hampshire Ave. Bldg. 32, Rm. 3330, Silver Spring, MD 20993-0002, 301-796-9115, lisa.granger@fda.hhs.gov.

SUPPLEMENTARY INFORMATION: In the Federal Register of Friday, November 3, 2017 (82 FR 51277), in FR Doc. 2017-23947, the following correction is made:

On page 51277, in the second column, in the header of the document, “[Docket FDA-2014-D-1147]” is corrected to read “[Docket No. FDA-2014-D-1167]”.

Dated: November 9, 2017.
Anna K. Abram,
Deputy Commissioner for Policy, Planning, Legislation, and Analysis.

[FR Doc. 2017-24948 Filed 11-16-17; 8:45 am]

BILLING CODE 4164-01-P